DEPARTMENT OF TRANSPORTATION

Federal Aviation Administration

[Summary Notice No. PE-2003-31]

Petitions for Exemption; Dispositions of Petitions Issued

AGENCY: Federal Aviation Administration (FAA), DOT.

ACTION: Notice of dispositions of prior petitions.

SUMMARY: Pursuant to FAA's rulemaking provisions governing the application, processing, and disposition of petitions for exemption part 11 of Title 14, Code of Federal Regulations (14 CFR), this notice contains a summary of dispositions of certain petitions previously received. The purpose of this notice is to improve the public's awareness of, and participation in, this aspect of FAA's regulatory activities.

FOR FURTHER INFORMATION CONTACT: Denise Emrick (202) 267-5174, Office of Rulemaking (ARM-1), Federal Aviation Administration, 800 Independence Avenue, SW., Washington, DC 20591.

This notice is published pursuant to 14 CFR 11.85 and 11.91.

Issued in Washington, DC, on May 29, 2003.
Richard D. McCurdy
Acting Assistant Chief Counsel for Regulations.

Petitions for Exemption

Docket No.: FAA-2002-12947.

Petitioner: Trans States Airlines, Inc. d.b.a. American Connection and U.S. Airways Express.

Section of 14 CFR Affected: 14 CFR 121.434(c)(1)(ii).

Description of Relief Sought: To permit Trans States Airlines, Inc. d.b.a. American Connection and U.S. Airways Express to substitute a qualified and authorized check airman or aircrew program designee for an FAA inspector to observe a qualifying pilot in command who is completing initial or upgrade training specified in § 121.424 during at least one flight leg that includes a takeoff and a landing. Grant, 05/13/2003, Exemption No. 8054.

Docket No.: FAA-2002-13224.

Petitioner: Petersen Aviation.

Section of 14 CFR Affected: 14 CFR 135.269(b)(5).

Description of Relief Sought: To allow Petersen Aviation to operate on-demand charter flights of more than 10 hours but less than 12 hours without having adequate sleeping facilities on the aircraft for the relief pilot. Denial, 05/14/2003, Exemption No. 8053.

[FR Doc. 03-14066 Filed 6-3-03; 8:45 am]

BILLING CODE 4910-13-U